NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: December 8, 2015; 1:00 p.m. to 5:45 p.m. (EST).

December 9, 2015; 8:45 a.m. to 12:00 p.m. (EST).

Place: National Science Foundation, 4201 Wilson Boulevard, Arlington, Virginia 22230; Stafford I, Room 1235

Type of Meeting: PART-OPEN.

Contact Person: Joan Miller, National Science Foundation, 4201 Wilson Boulevard, Arlington, VA 22230 (703) 292-8200.

Purpose of Meeting: To provide advice concerning issues related to the oversight, integrity, development and enhancement of NSF's business operations.

Agenda:

December 8, 2015.

1:00 p.m.-4:30 p.m., OPEN—Welcome/Introductions; BFA/OIRM Updates; NSF Headquarters Relocation Update; Modernizing the Workforce—IT—Driven Change Management; Records Management/Digitization.

4:30 p.m.-5:45 p.m. CLOSED—Briefing on the National Academy of Public Administration Study of NSF's Use of Cooperative Agreements to Support Large Scale Investments in Science and Technology.

December 9, 2015

8:45 a.m.-12:00 p.m. OPEN—Preparation for discussion with NSF Director and Chief Operating Officer; Discussion with NSF Director and Chief Operating Officer; Presidential Transitions: What Agencies Can Do to Prepare; Meeting Wrap-Up.

Reason for Closing: This session of the meeting is closed to the public in accordance with the provisions of 5 U.S.C. 552b(c), (4) and (6) of the Government in the Sunshine Act.

Dated: November 10, 2015.
Crystal Robinson,
Committee Management Officer.

[FR Doc. 2015-29164 Filed 11-13-15; 8:45 am]

BILLING CODE 7555-01-P